DEPARTMENT OF LABOR

Mine Safety and Health Administration

Petitions for Modification

The following parties have filed petitions to modify the application of existing safety standards under section 101(c) of the Federal Mine Safety and Health Act of 1977.

1. Big Ridge, Inc.

[Docket No. M-2001-013-C]

Big Ridge, Inc., P.O. Box 444, Harrisburg, Illinois 62946 has filed a petition to modify the application of 30 CFR 75.503 (permissible electric face equipment; maintenance) and 30 CFR 18.41(f) (plug and receptacle-type connectors) to its Willow Lake Portal Mine (I.D. No. 11-03054) located in Saline County, Illinois. The petitioner requests that its previously granted petition for modification for the Arclar Company, Big Ridge Mine, I.D. No. 11-02997, docket number M-98-69-C be transferred to the Big Ridge, Inc., Willow Lake Portal Mine, I.D. No. 11-03054. The petitioner proposes to use fabricated metal locking devices, consisting of a locking screw threaded through a steel bracket to lock battery plugs to machine-mounted battery receptacles on permissible, mobile battery-powered machines instead of using padlocks, to prevent the threaded rings that secure the battery plugs to the battery receptacles from unintentionally loosening. The petitioner asserts that the proposed alternative method would provide at least the same measure of protection as the existing standard and petition for modification.

2. Consolidation Coal Company

[Docket No. M-2001-014-C and M-2001-015-C]

Consolidation Coal Company, Consol Plaza, 1800 Washington Road, Pittsburgh, Pennsylvania 15241-1421 has filed a petition to modify the application of 30 CFR 75.1700 (oil and gas wells) to its Blacksville No. 2 Mine (I.D. No. 46-01968) located in Monongalia County, West Virginia, and its Robinson Run No. 95 Mine (I.D. No. 46-01318) located in Harrison County, West Virginia. The petitioner proposes to seal the Pittsburgh Coal Seam from the surrounding strata at the abandoned wells using technology developed through its well-plugging program instead of maintaining barriers around the oil and gas wells. The petitioner asserts that the proposed alternative method would provide at least the same measure of protection as the existing standard.

3. Goodin Creek Contracting, Inc.

[Docket No. M-2001-016-C]

Goodin Creek Contracting, Inc., Rt. 1, Box 419-A1, Gray, Kentucky 40734 has filed a petition to modify the application of 30 CFR 75.342 (methane monitors) to its Goodin Creek #2 Mine (I.D. No. 15-18304) located in Knox County, Kentucky. The petitioner proposes to use hand-held, continuous-duty methane and oxygen indicators instead of machine-mounted methane monitors on three-wheel tractors with drag bottom buckets. The petitioner asserts that the proposed alternative method would provide at least the same measure of protection as the existing standard.

4. Goodin Creek Contracting, Inc.

[Docket No. M-2001-017-C]

Goodin Creek Contracting, Inc., Rt. 1, Box 419-A1, Gray, Kentucky 40734 has filed a petition to modify the application of 30 CFR 75.380(f)(4)(I) (escapeways; bituminous and lignite mines) to its Goodin Creek #2 Mine (I.D. No. 15-18304) located in Knox County, Kentucky. The petitioner proposes to use one twenty-or two ten-pound portable chemical fire extinguishers on each Mescher tractor. The fire extinguishers will be readily accessible to the equipment operator. The petitioner proposes to instruct the equipment operator to inspect each fire extinguisher daily before entering the mine, and maintain records of all inspections of the fire extinguishers. The petitioner asserts that the proposed alternative method would provide at least the same measure of protection as the existing standard.

5. Excel Mining, LLC

[Docket No. M-2001-018-C]

Excel Mining, LLC, 4126 State Highway 194 West, Pikeville, Kentucky 41501 has filed a petition to modify the application of 30 CFR 75.388(a)(1) (boreholes in advance of mining) to its Excel Mine No. 3 (I.D. No. 15-08079) located in Pike County, Kentucky. The petitioner proposes to drill boreholes in each advancing working place when the working place approaches to within twenty-five (25) feet of certain areas of the mine as shown by the surveys certified by a registered engineer or registered surveyor unless the area has been preshift examined. The petitioner has outlined specific terms and conditions in this petition that would be followed when implementing its proposed alternative method. The petitioner asserts that the proposed alternative method would provide at least the same measure of protection as the existing standard.

6. Windsor Coal Company

[Docket No. M-2001-019-C]

Windsor Coal Company, P.O. Box 39, West Liberty, West Virginia 26074 has filed a petition to modify the application of 30 CFR 75.364(b)(2) (weekly examination) to its Windsor Mine (I.D. No. 46-01286) located in Brooke County, West Virginia. The petitioner proposes to establish evaluation points to examined the return air course on a weekly basis and to maintain the evaluation points in safe condition, to have a certified person test for the proper quantity, quality, and direction of the air at all check points and place his/her initials, the date, and time in a record book kept on the surface and made available for inspection by interested persons. The petitioner states that due to deteriorating roof and rib conditions, traveling certain areas of the return air course would expose persons to hazardous conditions. The petitioner asserts that the proposed alternative method would provide at least the same measure of protection as the existing standard.

7. Brushy Creek Coal Company

[Docket No. M-2001-020-C]

Brushy Creek Coal Company, 4270 North American Road, Galatia, Illinois 62935 has filed a petition to modify the application of 30 CFR 75.364(b)(4) (weekly examination) to its Brushy Creek Mine (I.D. No. 11-02636) located in Saline County, Illinois. The petitioner requests a modification of the existing standard to allow weekly examinations for water and gas levels at the seals of the #6 Slope to be checked at the slope. The petitioner proposes to construct a double set of seals and to check the water and gas concentrates at the slope seals. The petitioner asserts that application of the existing standard would result in a diminution of safety to the miners and that proposed alternative method would provide at least the same measure of protection as the existing standard.

8. Brushy Creek Coal Company

[Docket No. M-2001-021-C]

Brushy Creek Coal Company, 4270 North American Road, Galatia, Illinois 62935 has filed a petition to modify the application of 30 CFR 75.360(b)(5) (preshift examination) to its Brushy Creek Mine (I.D. No. 11-02636) located in Saline County, Illinois. The petitioner requests a modification of the existing standard to allow preshift examinations for water and gas levels at the seals of the #6 slope to be checked at the slope. The petitioner proposes to construct a double set of seals and to check the water and gas concentrates at the slope seals. The petitioner asserts that application of the existing standard would result in a diminution of safety to the miners and that proposed alternative method would provide at least the same measure of protection as the existing standard.

9. Cook and Sons Mining, Inc.

[Docket No. M-2001-022-C]

Cook and Sons Mining, Inc., 147 Big Blue Boulevard, Whitesburg, Kentucky 41858 has filed a petition to modify the application of 30 CFR 75.503 (permissible electric face equipment; maintenance) and 30 CFR 18.41(f) to its Premium Mine (I.D. No. 15-08978) and its Sandlick Mine (I.D. No. 15-17896) located in located Letcher County, Kentucky. The petitioner proposes to use a permanently installed spring-loaded locking device on permissible mobile battery-powered machines instead of using padlocks. This device will prevent unintentional loosening of battery plugs from battery receptacles, thus eliminating the hazards associated with difficult removal of padlocks during emergency situations. The petitioner asserts that the proposed alternative method would provide at least the same measure of protection as the existing standard.

10. Knife River Corporation

[Docket No. M-2001-023-C]

Knife River Corporation, P.O. Box 30, Savage, Montana 59262-0030 has filed a petition to modify the application of 30 CFR 77.900 (low- and medium-voltage circuits serving portable or mobile three-phase alternating current equipment; circuit breakers) to its Savage Mine (I.D. No. 24-00106) located in Richland County, Montana. The petitioner requests a modification of the standard for start up of the electric water pumps in the pit area when there is undervoltage or loss of power to the pump box. The petitioner proposes to: (i) Use automatic resetting circuit breakers that meet the requirement of the existing standard and that would reset only after trips that are caused by undervoltage; (ii) have a qualified person record examinations and make the records available for inspection upon request by interested parties; (iii) provide electrical training to all affected mining personnel before the system is put in operation, record this training, and make it available for inspection at all times; (iv) obtain undervoltage release by the undervoltage unit and use a normal closed relay in combination with a capacitor trip unit to open the breaker; and (v) post visible signs at the pump controller and the pumps, warning of automatic restart of the pumps. The petitioner asserts that the proposed alternative method would provide at least the same measure of protection as the existing standard.

11. Knife River Corporation

[Docket No. M-2001-024-C]

Knife River Corporation, P.O. Box 30, Savage, Montana 59262-0030 has filed a petition to modify the application of 30 CFR 77.900 (low- and medium-voltage circuits serving portable or mobile three-phase alternating current equipment; circuit breakers) to its Beulah Mine (I.D. No. 32-00043) located in Mercer County, Montana. The petitioner requests a modification of the standard to permit start-up of the electric water pumps in the pit area when there is undervoltage or loss of power to the pump box. The petitioner proposes to: (i) Use automatic resetting circuit breakers that meet the requirement of the existing standard and that would reset only after trips that are caused by undervoltage; (ii) have a qualified person record examinations and make records available for inspection upon request by interested parties; (iii) provide electrical training to all affected mining personnel before the system is put in operation, record this training and make it available for inspection at all times; (iv) obtain undervoltage release by the undervoltage unit and use a normal closed relay in combination with a capacitor trip unit to open the breaker; and (v) post visible signs at the pump controller and at the pumps, warning of automatic restart of the pumps. The petitioner asserts that the proposed alternative method would provide at least the same measure of protection as the existing standard.

12. Excel Mining, LLC

[Docket No. M-2001-025-C]

Excel Mining, LLC, HC 67, Box 615, Pilgrim, Kentucky 41250 has filed a petition to modify the application of 30 CFR 75.503 (permissible electric face equipment; maintenance) and 30 CFR 18.41(f) (plug and receptacle-type connectors) to its Mine No. 2 (I.D. No. 15-09571) located in Martin County, Kentucky, and its Mine No. 3 (I.D. No. 15-08079) located in Pike County, Kentucky. The petitioner proposes to use a permanently installed locking screw threaded through a steel bracket or spring-loaded locking devices in lieu of padlocks on battery plugs for powering permissible underground mining equipment. This is to prevent the threaded rings securing the battery plugs to the battery receptacles from unintentional loosening. Warning tags stating “Do Not Disengage Plugs Under Load” will be placed on all battery connectors on the battery-powered equipment. The petitioner states that all personnel who operate and maintain the battery-powered mobile equipment would receive training before implementation of its alternative method. The petitioner asserts that the proposed alternative method would provide at least the same measure of protection as the existing standard.

Request for Comments

Persons interested in these petitions are encouraged to submit comments via e-mail to “comments@msha.gov,” or on a computer disk along with an original hard copy to the Office of Standards, Regulations, and Variances, Mine Safety and Health Administration, 4015 Wilson Boulevard, Room 627, Arlington, Virginia 22203. All comments must be postmarked or received in that office on or before June 25, 2001. Copies of these petitions are available for inspection at that address.

Dated at Arlington, Virginia this 2nd day of May 2001.
David L. Meyer,
Director, Office of Standards, Regulations, and Variances.

[FR Doc. 01-13209 Filed 5-24-01; 8:45 am]

BILLING CODE 4510-43-P